SECURITIES AND EXCHANGE COMMISSION

[File No. 500-1]

In the Matter of: Edentify, Inc., Embryo Development Corp., Enclaves Group, Inc., Energytec, Inc., Enesco Group, Inc., Entertainment Is Us, Inc., Entrada Networks, Inc., Entropin, Inc., Epic Financial Corp., Epicus Communications Group, Inc., Epixtar Corp., Equisure, Inc., Equus Gaming Co., and Evans, Inc. (n/k/a Fur Company A), Order of Suspension of Trading

November 10, 2010.

It appears to the Securities and Exchange Commission that there is a lack of current and accurate information concerning the securities of Edentify, Inc. because it has not filed any periodic reports since the period ended September 30, 2007.

It appears to the Securities and Exchange Commission that there is a lack of current and accurate information concerning the securities of Embryo Development Corp. because it has not filed any periodic reports since the period ended July 31, 2006.

It appears to the Securities and Exchange Commission that there is a lack of current and accurate information concerning the securities of Enclaves Group, Inc. because it has not filed any periodic reports since the period ended September 30, 2006.

It appears to the Securities and Exchange Commission that there is a lack of current and accurate information concerning the securities of Energytec, Inc. because it has not filed any periodic reports since the period ended September 30, 2007.

It appears to the Securities and Exchange Commission that there is a lack of current and accurate information concerning the securities of Enesco Group, Inc. because it has not filed any periodic reports since the period ended September 30, 2006.

It appears to the Securities and Exchange Commission that there is a lack of current and accurate information concerning the securities of Entertainment Is Us, Inc. because it has not filed any periodic reports since the period ended June 30, 2006.

It appears to the Securities and Exchange Commission that there is a lack of current and accurate information concerning the securities of Entrada Networks, Inc. because it has not filed any periodic reports since the period ended April 30, 2005.

It appears to the Securities and Exchange Commission that there is a lack of current and accurate information concerning the securities of Entropin, Inc. because it has not filed any periodic reports since the period ended September 30, 2006.

It appears to the Securities and Exchange Commission that there is a lack of current and accurate information concerning the securities of Epic Financial Corp. because it has not filed any periodic reports since the period ended July 31, 2005.

It appears to the Securities and Exchange Commission that there is a lack of current and accurate information concerning the securities of Epicus Communications Group, Inc. because it has not filed any periodic reports since the period ended November 30, 2007.

It appears to the Securities and Exchange Commission that there is a lack of current and accurate information concerning the securities of Epixtar Corp. because it has not filed any periodic reports since the period ended June 30, 2005.

It appears to the Securities and Exchange Commission that there is a lack of current and accurate information concerning the securities of Equisure, Inc. because it has not filed any periodic reports since the period ended September 30, 1997.

It appears to the Securities and Exchange Commission that there is a lack of current and accurate information concerning the securities of Equus Gaming Co. because it has not filed any periodic reports since the fiscal year ended December 31, 2002.

It appears to the Securities and Exchange Commission that there is a lack of current and accurate information concerning the securities of Evans, Inc. (n/k/a Fur Company A) because it has not filed any periodic reports since the period ended November 28, 1998.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on November 10, 2010, through 11:59 p.m. EST on November 23, 2010.

By the Commission.
Jill M. Peterson,
Assistant Secretary.

[FR Doc. 2010-28775 Filed 11-10-10; 4:15 pm]

BILLING CODE 8011-01-P